SMALL BUSINESS ADMINISTRATION

[Disaster Declaration #18143 and #18144; Georgia Disaster Number GA-00158]

Presidential Declaration of a Major Disaster for the State of Georgia

AGENCY: U.S. Small Business Administration.

ACTION: Notice.

SUMMARY: This is a Notice of the Presidential declaration of a major disaster for the State of Georgia (FEMA-4738-DR), dated 09/07/2023.

Incident: Hurricane Idalia.

Incident Period: 08/30/2023.

DATES: Issued on 09/07/2023.

Physical Loan Application Deadline Date: 11/06/2023.

Economic Injury (EIDL) Loan Application Deadline Date: 06/07/2024.

ADDRESSES: Submit completed loan applications to: U.S. Small Business Administration, Processing and Disbursement Center, 14925 Kingsport Road, Fort Worth, TX 76155.

FOR FURTHER INFORMATION CONTACT: A. Escobar, Office of Disaster Recovery & Resilience, U.S. Small Business Administration, 409 3rd Street SW, Suite 6050, Washington, DC 20416, (202) 205-6734.

SUPPLEMENTARY INFORMATION: Notice is hereby given that as a result of the President's major disaster declaration on 09/07/2023, applications for disaster loans may be filed at the address listed above or other locally announced locations.

The following areas have been determined to be adversely affected by the disaster:

Primary Counties (Physical Damage and Economic Injury Loans): Cook, Glynn, Lowndes.

Contiguous Counties (Economic Injury Loans Only):

Georgia: Berrien, Brantley, Brooks, Camden, Colquitt, Echols, Lanier, McIntosh, Tift, Wayne.

Florida: Hamilton, Madison.

The Interest Rates are:

| Percent
For Physical Damage:
Homeowners with Credit Available Elsewhere | 5.000
Homeowners without Credit Available Elsewhere | 2.500
Businesses with Credit Available Elsewhere | 8.000
Businesses without Credit Available Elsewhere | 4.000
Non-Profit Organizations with Credit Available Elsewhere | 2.375
Non-Profit Organizations without Credit Available Elsewhere | 2.375
For Economic Injury:
Businesses & Small Agricultural Cooperatives without Credit Available Elsewhere | 4.000
Non-Profit Organizations without Credit Available Elsewhere | 2.375

The number assigned to this disaster for physical damage is 18143 8 and for economic injury is 18144 0.

(Catalog of Federal Domestic Assistance Number 59008)

Francisco Sánchez, Jr.,
Associate Administrator, Office of Disaster Recovery & Resilience.

[FR Doc. 2023-20060 Filed 9-15-23; 8:45 am]

BILLING CODE 8026-09-P